NATIONAL AERONAUTICS AND SPACE ADMINISTRATION

[Notice 07-046]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: May 29, 2007.

FOR FURTHER INFORMATION CONTACT: Linda B. Blackburn, Patent Counsel, Langley Research Center, Mail Code 141, Hampton, VA 23681-2199; telephone (757) 864-3221; fax (757) 864-9190.

NASA Case No. LAR-17494-1: Templated Growth Of Carbon Nanotubes;

NASA Case No. LAR-17229-1: Thin-Film Evaporative Cooling For Side-Pumped Laser;

NASA Case No. LAR-17294-1: Wireless Sensing System Using Open-Circuit, Electrically-Conductive Spiral-Trace Sensor;

NASA Case No. LAR-17295-1: Damage Detection/Locating System Providing Thermal Protection;

NASA Case No. LAR-16874-1: Novel Aromatic/Aliphatic Diamine Derivatives For Advanced Compositions And Polymers.

Dated: May 21, 2007.
Keith T. Sefton,
Deputy General Counsel, Administration and Management.

[FR Doc. E7-10171 Filed 5-25-07; 8:45 am]

BILLING CODE 7510-13-P